DEPARTMENT OF ENERGY

Federal Energy Regulatory Commission

Combined Notice of Filings #1

Take notice that the Commission received the following exempt wholesale generator filings:

Docket Numbers: EG20-227-000.

Applicants: Mechanicsville Lessee, LLC.

Description: Notice of Self-Certification as an Exempt Wholesale Generator of Mechanicsville Lessee, LLC.

Filed Date: 8/11/20.

Accession Number: 20200811-5038.

Comments Due: 5 p.m. ET 9/1/20.

Docket Numbers: EG20-228-000.

Applicants: AB Lessee, LLC.

Description: Notice of Self-Certification as an Exempt Wholesale Generator of AB Lessee, LLC.

Filed Date: 8/11/20.

Accession Number: 20200811-5041.

Comments Due: 5 p.m. ET 9/1/20.

Docket Numbers: EG20-229-000.

Applicants: Neosho Ridge Wind, LLC.

Description: Notice of Self-Certification of Exempt Wholesale Generator Status of Neosho Ridge Wind, LLC.

Filed Date: 8/11/20.

Accession Number: 20200811-5100.

Comments Due: 5 p.m. ET 9/1/20.

Take notice that the Commission received the following electric rate filings:

Docket Numbers: ER04-835-010.

Applicants: California Independent System Operator Corporation.

Description: Corrected Response to June 22, 2020 Deficiency Letter of California Independent System Operator Corporation.

Filed Date: 8/10/20.

Accession Number: 20200810-5193.

Comments Due: 5 p.m. ET 8/31/20.

Docket Numbers: ER18-1150-002.

Applicants: Northwest Ohio Wind, LLC.

Description: Notice of Non-Material Change in Status of Northwest Ohio Wind, LLC.

Filed Date: 8/10/20.

Accession Number: 20200810-5214.

Comments Due: 5 p.m. ET 8/31/20.

Docket Numbers: ER19-2828-003.

Applicants: Ohio Power Company, PJM Interconnection, L.L.C., AEP Ohio Transmission Company, Inc., American Electric Power Service Corporation.

Description: Tariff Amendment: AEP submits an amendment to ILDSA, Service Agreement No. 1336 to be effective 9/1/2019.

Filed Date: 8/10/20.

Accession Number: 20200810-5137.

Comments Due: 5 p.m. ET 8/31/20.

Docket Numbers: ER20-1863-001.

Applicants: Ingenco Wholesale Power, L.L.C.

Description: Tariff Amendment: Deficiency Filing for Ingenco Reactive Rate Schedule to be effective 6/1/2020.

Filed Date: 8/10/20.

Accession Number: 20200810-5164.

Comments Due: 5 p.m. ET 8/31/20.

Docket Numbers: ER20-2179-000; ER20-1907-000; ER20-1980-001; ER20-1985-000; ER20-1986-000; ER20-1987-000; ER20-1988-000; ER20-1991-000; ER20-2012-000; ER20-2019-000; ER20-2027-000; ER20-2049-000; ER20-2064-000; ER20-2069-000; ER20-2070-000; ER20-2153-000; ER20-2237-000; ER20-2380-000.

Applicants: Baldwin Wind Energy, LLC, Minco Wind I, LLC, Cedar Springs Wind, LLC, Northern Colorado Wind Energy Center, LLC, Day County Wind I, LLC, Cerro Gordo Wind, LLC, Northern Colorado Wind Energy Center II, LLC, Ponderosa Wind, LLC, Orbit Bloom Energy, LLC, Gray County Wind, LLC, Cedar Springs Transmission, LLC, Cedar Springs Wind III, LLC, High Majestic Wind I, LLC, Wheatridge Wind Energy, LLC, Wheatridge Wind Energy II, LLC, Sanford Airport Solar, LLC, Weatherford Wind, LLC, Saint Solar, LLC.

Description: Withdrawal of July 24, 2020 Amendment to Applications for Authorization to Make Market-Based Power Sales, et al. of the NextEra Companies.

Filed Date: 8/10/20.

Accession Number: 20200810-5209.

Comments Due: 5 p.m. ET 8/20/20.

Docket Numbers: ER20-2641-000.

Applicants: Sugar Creek Solar, LLC.

Description: Request for Prospective Tariff Waiver, et al. of Sugar Creek Solar, LLC.

Filed Date: 8/10/20.

Accession Number: 20200810-5094.

Comments Due: 5 p.m. ET 8/24/20.

Docket Numbers: ER20-2644-000.

Applicants: PJM Interconnection, L.L.C.

Description: § 205(d) Rate Filing: Amendment to ISA, SA No. 5660 and ICSA, SA No. 5661 re: Assignment to be effective 4/20/2020.

Filed Date: 8/11/20.

Accession Number: 20200811-5066.

Comments Due: 5 p.m. ET 9/1/20.

Docket Numbers: ER20-2645-000.

Applicants: Arizona Public Service Company.

Description: § 205(d) Rate Filing: Schedule 9 to be effective 10/11/2020.

Filed Date: 8/11/20.

Accession Number: 20200811-5104.

Comments Due: 5 p.m. ET 9/1/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 11, 2020.
Nathaniel J. Davis, Sr.,
Deputy Secretary.

[FR Doc. 2020-17975 Filed 8-17-20; 8:45 am]

BILLING CODE 6717-01-P